DEPARTMENT OF LABOR

Employment and Training Administration

[TA-W-52,132]

Pennsylvania House, Inc., Clayton-Marcus Co., Inc., Ladd Furniture, Inc., Monroe, NC; Amended Certification Regarding Eligibility To Apply for Worker Adjustment Assistance

In accordance with section 223 of the Trade Act of 1974 (19 U.S.C. 2273) the Department of Labor issued a Certification of Eligibility to Apply for Worker Adjustment Assistance on July 29, 2003, applicable to workers of Pennsylvania House, Inc., Monroe, North Carolina. The notice was published in the Federal Register on August 14, 2003 (68 FR 48643).

At the request of the State agency, the Department reviewed the certification for workers of the subject firm. The workers are engaged in the production of upholstered furniture.

Information shows that Pennsylvania House, Inc. and Clayton-Marcus Co., Inc. are wholly-owned subsidiaries of Ladd Furniture, Inc. Workers separated from employment at the subject firm had their wages reported under separate unemployment insurance (UI) tax accounts for Clayton-Marcus Co., Inc. and Ladd Furniture, Inc.

Accordingly, the Department is amending the certification to properly reflect this matter.

The intent of the Department's certification is to include all workers of Pennsylvania House, Inc. who were adversely affected by increased imports.

The amended notice applicable to TA-W-52,132 is hereby issued as follows:

All workers of Pennsylvania House, Inc., Clayton-Marcus Co., Inc., Ladd Furniture, Inc., Monroe, North Carolina, who became totally or partially separated from employment on or after June 23, 2002 through July 29, 2005, are eligible to apply for adjustment assistance under Section 223 of the Trade Act of 1974.

Signed at Washington, DC, this 16th day of December 2003.
Richard Church,
Certifying Officer, Division of Trade Adjustment Assistance.

[FR Doc. 04-653 Filed 1-12-04; 8:45 am]

BILLING CODE 4510-30-P